DEPARTMENT OF DEFENSE

Office of the Secretary

32 CFR Part 183

[Docket ID: DOD-2017-OS-0053]

RIN 0790-AK05

Defense Support of Special Events

AGENCY: Under Secretary of Defense for Policy, DoD.

ACTION: Final rule.

SUMMARY: This final rule removes the Department of Defense (DoD) regulation concerning defense support of special events. This part contains internal DoD policy and procedures and assigns responsibilities for support of civil authorities and qualifying entities during the conduct of special events; therefore, it does not require codification. DoD will remove this part but is providing notice published elsewhere in this issue of the Federal Register to inform the public how civil authorities and qualifying entities may submit requests for special event support.

DATES: This rule is effective on August 23, 2018.

FOR FURTHER INFORMATION CONTACT: Carol Corbin at 571-256-8319.

SUPPLEMENTARY INFORMATION: It has been determined that publication of this CFR part removal for public comment is impracticable, unnecessary, and contrary to public interest since it is based on removing DoD internal policies and procedures that are publicly available on the Department's issuance website.

DoD internal guidance concerning defense support of special events will continue to be published in DoD Instruction 3025.20, “Defense Support of Special Events,” available at http://www.esd.whs.mil/Portals/54/Documents/DD/issuances/dodi/302520p.pdf.

Concurrent to the part being removed, DoD, in order to comply with 5 U.S.C. 552(a), is providing notice in the Federal Register to inform the public how to submit requests for special event support.

This rule is not significant under Executive Order (E.O.) 12866, “Regulatory Planning and Review”; therefore, E.O. 13771, “Reducing Regulation and Controlling Regulatory Costs” does not apply.

List of Subjects in 32 CFR Part 183

Armed Forces.

PART 183—[REMOVED]

Accordingly, by the authority of 5 U.S.C. 301, 32 CFR part 183 is removed.

Dated: August 20, 2018.
Aaron T. Siegel,
Alternate OSD Federal Register Liaison Officer, Department of Defense.

[FR Doc. 2018-18228 Filed 8-22-18; 8:45 am]

BILLING CODE 5001-06-P